SECURITIES AND EXCHANGE COMMISSION

[Release No. 34-49511; File No. S7-10-04]

Regulation NMS

AGENCY: Securities and Exchange Commission.

ACTION: Change in hearing schedule.

SUMMARY: The Commission has changed the schedule for its hearings on proposed Regulation NMS.

DATES: The Commission will hold a public hearing on Regulation NMS on April 21, 2004 in New York, New York. Subsequent hearings will be scheduled as needed.

ADDRESSES: The April 21, 2004 public hearing will be held at the InterContinental The Barclay New York at 111 East 48th Street, New York, NY 10017. Persons submitting requests to appear or written testimony in lieu of testifying should file three copies of the request or testimony with Jonathan G. Katz, Secretary, Securities and Exchange Commission, 450 Fifth Street, NW., Washington, DC 20459-0609. Persons requesting to appear should also submit three copies of their oral statement or summary of their testimony to the same address. Persons who previously submitted a request to testify need not resubmit a request. Requests to appear and copies of oral statements or summaries of intended testimony may be filed electronically at the following e-mail address: rule-comments@sec.gov. The words “Request to Testify” should be clearly noted on the subject line of the request. All requests and other submissions also should refer to File No. S7-10-04. Copies of all requests and other submissions and transcripts of the hearings will be available for public inspection and copying in the Commission's Public Reference Room at 450 Fifth Street, NW., Washington, DC 20549. All submitted requests and other materials will be posted on the Commission's Internet Web site (http://www.sec.gov). We do not edit personal information from submissions. You should submit only information that you wish to make available publicly.

FOR FURTHER INFORMATION CONTACT: Sapna C. Patel, Special Counsel, Office of Market Supervision, Division of Market Regulation, at (202) 942-0166, Securities and Exchange Commission, 450 Fifth Street, NW., Washington, DC 20549-1001.

SUPPLEMENTARY INFORMATION:

I. Hearing

On February 26, 2004, the Securities and Exchange Commission (the “Commission”) approved for publication proposed Regulation NMS (the “Proposing Release”), which is designed to enhance and modernize the regulatory structure of the U.S. equity markets (Securities Exchange Act Release No. 34-49325). In connection with the Proposing Release, the Commission determined to hold public hearings to give the Commission the benefit of the views of interested members of the public regarding the issues raised and questions posed in the Proposing Release.

The Commission had originally scheduled two hearings, one in Washington, DC, and the other in New York, NY. In response to our previous notice, the large majority of participants preferred to testify on April 21, 2004 in New York, in light of the complexity of issues raised in Regulation NMS and their preference for the New York location. To ensure as full a consideration and discussion of the issues as possible, the Commission will hold its first hearing on April 21, 2004 in New York. Subsequent hearings will be scheduled as needed. The Commission also is extending the period for requesting to testify until April 9, 2004.

II. Procedures for Hearing

Persons who wish to testify at the April 21, 2004 hearing must submit a written request to the Commission by April 9, 2004. Persons requesting to testify must also submit three copies of their oral statements or a summary of their intended testimony to the Commission by April 12, 2004. Those who do not wish to appear at the hearings may submit written testimony on or before the end of the comment period for the Proposing Release, which is 75 days after publication of the Proposing Release in the Federal Register (May 24, 2004), for inclusion in the public comment file. The Commission will publish a schedule of appearances on or about April 16, 2004. Based on the number of requests received, the Commission may not be able to accommodate all requests.

The hearing will begin at 9 a.m. The hearing will be broadcast live and access will be available via webcast on the Commission's Web site at http://www.sec.gov. The Commission may limit the time for formal presentations or group presentations into a series of panels. Time will be reserved for members of the Commission and Commission staff to pose questions to each witness concerning his or her testimony as well as other matters pertaining to the Proposing Release. The Commission has designated Jonathan G. Katz, Secretary of the Commission, as the hearing officer.

Dated: March 31, 2004.
By the Commission.
Margaret H. McFarland,
Deputy Secretary.

[FR Doc. 04-7789 Filed 4-5-04; 8:45 am]

BILLING CODE 8010-01-P